Title 3—

The President

Proclamation 8556 of September 10, 2010

National Childhood Cancer Awareness Month, 2010

By the President of the United States of America

A Proclamation

Each year, thousands of children face the battle against cancer with inspiring hope and incredible bravery. When a child is diagnosed with cancer, an entire family and community are affected. The devotion of parents, grandparents, loved ones, and friends creates a treasured network of support for these courageous children. During National Childhood Cancer Awareness Month, we honor the young lives taken too soon and the survivors who face chronic health challenges, we celebrate the progress made in treatment and recovery, and we rededicate ourselves to fighting this disease so all children may have the chance to live a full and healthy life.

While survival rates for many childhood cancers have risen sharply over the past few decades, cancer is still the leading cause of death by disease for young Americans between infancy and age 15. Too many families have been touched by cancer and its consequences, and we must work together to control, and ultimately defeat, this destructive disease. I invite all Americans to visit Cancer.gov for more information and resources about the symptoms, diagnosis, and treatment of childhood cancers.

Tragically, the causes of cancer in children are largely unknown. Until these illnesses can be cured, my Administration will continue to support investments in research and treatment. The National Cancer Institute, the Federal Government’s principal agency for cancer research, is supporting national and international studies examining the risk factors and possible causes of childhood cancers.

The health reforms included in the landmark Affordable Care Act advance critical protections for individuals facing cancer. Provisions in the law prohibit insurance companies from limiting or denying coverage to individuals participating in clinical trials, the cornerstone of cancer research. After recovering from cancer, children can no longer be denied insurance coverage due to a pre-existing condition. It also requires all new plans to provide preventive services without charging copayments, deductibles, or coinsurance, increasing access to regular checkups that can help detect and treat childhood cancers earlier. The Affordable Care Act eliminates annual and lifetime caps on insurance coverage and prohibits companies from dropping coverage if someone gets sick, giving patients and families the peace of mind that their insurance will cover the procedures their doctors recommend.

This month, we pay tribute to the health-care professionals, researchers, private philanthropies, social support organizations, and parent advocacy groups who work together to provide hope and help to families and find cures for childhood cancers. Together, we will carry on their work toward a future in which cancer no longer threatens the lives of our Nation’s children.

NOW, THEREFORE, I, BARACK OBAMA, President of the United States of America, by virtue of the authority vested in me by the Constitution and the laws of the United States, do hereby proclaim September 2010 as National Childhood Cancer Awareness Month. I also encourage all Americans to join me in recognizing and reaffirming our commitment to fighting childhood cancer.

IN WITNESS WHEREOF, I have hereunto set my hand this tenth day of September, in the year of our Lord two thousand ten, and of the Independence of the United States of America the two hundred and thirty-fifth.

[FR Doc. 2010-23197

Filed 9-14-10; 11:15 am]

Billing code 3195-W0-P